DEPARTMENT OF ENERGY

Federal Energy Regulatory Commission

[Project No.: 503-048]

Idaho Power Company; Notice of Intent To Prepare an Environmental Impact Statement and Notice of Scoping Meetings and Soliciting Scoping Comments

January 9, 2009.

Take notice that the following hydroelectric application has been filed with the Commission and is available for public inspection.

a. Type of Application: New Major License.

b. Project No.: 503-048.

c. Date filed: June 26, 2008.

d. Applicant: Idaho Power Company.

e. Name of Project: Swan Falls Hydroelectric Project.

f. Location: The Swan Falls Hydroelectric Project is located on the Snake River at river mile (RM) 457.7 in Ada and Owyhee counties of southwestern Idaho, about 35 miles southwest of Boise. The project occupies 528.8 acres of lands of the United States within the Snake River Birds of Prey National Conservation Area.

g. Filed Pursuant to: Federal Power Act, 16 U.S.C. 791(a)-825(r).

h. Applicant Contact: Mr. Tom Saldin, Senior Vice President and General Counsel, Idaho Power Company, P.O. Box 70, Boise, Idaho 83707, (208) 388-2550.

i. FERC Contact: James Puglisi, Federal Energy Regulatory Commission, 888 First Street, NE., Washington, DC 20426; telephone (202) 502-6241 or by e-mail at james.puglisi@ferc.gov.

j. Deadline for filing scoping comments: March 13, 2009.

All documents (original and eight copies) should be filed with: Kimberly D. Bose, Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The existing Swan Falls Project consists of: (1) A 1,218-foot-long concrete gravity and rock-fill dam composed of an abutment embankment, a spillway section, a center island, the old powerhouse section, the intermediate dam, and the new powerhouse; (2) a 12-mile-long 1,525-acre reservoir with a normal maximum water surface elevation of 2,314 feet mean sea level (msl); (3) twelve equal-width, concrete spillways with a capacity of 105,112 cubic feet per second (cfs) at reservoir elevation 2,318 msl, divided into two sections (western and eastern)—the western section, contiguous with the abutment embankment, is a gated, concrete ogee section with eight radial gates, and the eastern section, which is adjacent to the island, contains four radial gates; (4) two concrete flow channels (instead of penstocks); (5) two pit-bulb turbine generators with a nameplate rating of 25 megawatts; (6) a powerhouse completed in 1994; (7) a 1,400-foot-long, 120-foot-wide excavated tailrace channel; (8) a 33,600-kilovolt ampere main power transformer; (9) a 1-mile-long, 138-kilovolt transmission line; and (10) appurtenant equipment.

m. A copy of the application is available for review at the Commission in the Public Reference Room or may be viewed on the Commission's Web site at http://www.ferc.gov using the “eLibrary” link. Enter the docket number, excluding the last three digits, in the docket number field to access the document. For assistance, contact FERC Online Support at FERCOnlineSupport@ferc.gov or toll-free at 1-866-208-3676, or for TTY, (202) 502-8659. A copy is also available for inspection and reproduction at the address in item h above.

You may also register online at http://www.ferc.gov/docs-filings/esubscription.asp to be notified via e-mail of new filings and issuances related to this or other pending projects. For assistance, contact FERC Online Support.

n. Scoping Process

The Commission intends to prepare an Environmental Impact Statement (EIS) on the project in accordance with the National Environmental Policy Act (NEPA). The EIS will consider both site-specific and cumulative environmental impacts and reasonable alternatives to the proposed action. Our intent is for the planned scoping meetings to satisfy the NEPA scoping requirements.

Scoping Meetings

Commission staff will conduct two scoping meetings. All interested individuals, organizations, and agencies are invited to attend one or both of the meetings, and to assist the staff in identifying the scope of the environmental issues that should be analyzed in the EIS. The times and locations of these meetings are as follows:

Daytime Scoping Meeting

When: February 11, 2009, 9-11 a.m. (MST).

Where: Doubletree Hotel—Boise Riverside, 2900 Chinden Blvd., Boise, Idaho.

Evening Scoping Meeting

When: February 10, 2009, 7-9 p.m. (MST).

Where: Doubletree Hotel—Boise Riverside, 2900 Chinden Blvd., Boise, Idaho.

Scoping Document 1 (SD1), which outlines the subject areas to be addressed in the environmental document, was distributed to the parties on the Commission's mailing list. Copies of SD1 will be available at the scoping meetings, or may be viewed on the Web at http://www.ferc.gov using the “eLibrary” link (see item m above). Based on all oral and written comments, a Scoping Document 2 (SD2) will be issued. SD2 will include a list of issues identified through the scoping process.

Site Visit

The Applicant and FERC staff will conduct a project site visit beginning at 9 a.m. on February 10, 2008. Participants will meet at the overlook above Swan Falls dam at 9 a.m. To reach the meeting site, take I-84 from Boise, turn south at Exit 44 onto S. Meridian Road (ID-69) toward Kuna, follow ID-69 as it becomes E. Avalon Road in Kuna, turn south onto S. Swan Falls Road, and follow Swan Falls Road about 19 miles to the overlook above the dam. Allow 60 to 75 minutes for the drive from Boise. All participants are responsible for their own transportation. The site visit will take 3 to 4 hours.

Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Meeting Procedures

The meetings are recorded by a stenographer and become part of the formal record of the Commission proceeding on the project.

Individuals, organizations, and agencies with environmental expertise and concerns are encouraged to attend the meetings and to assist the staff in defining and clarifying the issues to be addressed in the EIS.

Kimberly D. Bose,
Secretary.

[FR Doc. E9-752 Filed 1-14-09; 8:45 am]

BILLING CODE 6717-01-P